FEDERAL COMMUNICATIONS COMMISSION

Sunshine Act Meeting; Deletion of Agenda Items; Open Commission Meeting; Thursday, March 3, 2011

March 2, 2011.

The following items have been deleted from the list of Agenda items scheduled for consideration at the Thursday, March 3, 2011, Open Meeting and previously listed in the Commission's Notice of February 24, 2011. The items have been adopted by the Commission.

Item No. | Bureau | Subject
6 | Wireless Telecommunications and Consumer & Governmental Affairs | Title: Implementation of Sections 716 and 717 of the Communications Act of 1934, as Enacted by the Twenty-First Century Communications and Video Accessibility Act of 2010 (CG Docket No. 10-213); Amendments to the Commission's rules implementing Sections 255 and 251(a)(2) of the Communications Act of 1934, as Enacted by the Telecommunications Act of 1996 (WT Docket No. 96-198) and Accessible Mobile Phone Options for People who are Blind, Deaf-Blind, or Have Low Vision (CG Docket No. 10-145).
|  | Summary: The Commission will consider a Notice of Proposed Rulemaking that seeks comment on rules implementing provisions of the Twenty-First Century Communications and Video Accessibility Act of 2010 (CVAA). The NPRM proposes rules requiring providers of advanced communications services and manufacturers of equipment used for those services to make their products accessible to people with disabilities.
7 | Media | Title: Video Description: Implementation of the Twenty-First Century Communications and Video Accessibility Act of 2010.
|  | Summary: The Commission will consider a Notice of Proposed Rulemaking to reinstate the video description rules adopted by the Commission in 2000, as directed in the CVAA.

Federal Communications Commission.
Marlene H. Dortch,
Secretary, Office of the Secretary, Office of Managing Director.

[FR Doc. 2011-5527 Filed 3-7-11; 4:15 pm]

BILLING CODE 6712-01-P